DEPARTMENT OF TRANSPORTATION

Pipeline and Hazardous Materials Safety Administration

Notice of Application for Special Permits

AGENCY: Office of Hazardous Materials Safety, Pipeline and Hazardous Materials Safety Administration, PHMSA, DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1-Motor vehicle, 2-Rail freight, 3-Cargo vessel, 4-Cargo aircraft only, 5-Passenger-carrying aircraft.

DATES: Comments must be received on or before March 23, 2015.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington DC or at http://regulations.gov.

This notice of receipt of applications for special permit is published in accordance with Part 107 of the Federal hazardous materials transportation law (49 U.S.C. 5117(b); 49 CFR 1.53(b)).

Issued in Washington, DC, on February 3, 2015.
Donald Burger,
Chief, General Approvals and Permits.

Application permits No. | Docket No. | Applicant | Regulation(s) affected | Nature of special thereof
16356-N |  | United Launch Alliance, LLC, Centennial, CO | 49 CFR 172.320, 173.54(a), 173.56(b), 173.57, 173.58, ICAO TI Special Provision A62, ICAO TI Packing Instruction 101 | To authorize the transportation in commerce of not more than 25 grams of solid explosive or pyrotechnic material, including waste containing explosives, that has energy density not significantly greater than that of pentaerythritol tetranitrate, classed as Division 1.4E when packed in a special shipping container. (modes 1, 2, 4)
16359-N |  | Department of Defense, Scott AFB, IL | 49 CFR 172.101(k)(6), 172.101(k)(7), 172.101(k)(8), 172.101(k)(9), 172.101(k)(10), 176.84(c)(1), 176.84(c)(2) Notes 14E, 15E, 26E, and 27E, IMDG Code 3.2.1 Column 16, IMDG Code 7.1.3.1 | To authorize the transportation in commerce of Division 1.1, 1.2, 1.3, and 1.4 hazardous materials in cargo transport units that are not closed and are not stowed in accordance with the Hazardous Materials Table or the Dangerous Goods List. (mode 3)
16361-N |  | The University of Cincinnati, Cincinnati, OH | 49 CFR 173.196 | To authorize the transportation in commerce of certain Category A infectious substances in alternative packaging. (mode 1)
16364-N |  | ExodusDirect LLC, Des Moines, IA | 49 CFR 173.13(a), 173.13(b), 173.13(c)(1)(ii), 173.13(c)(1)(iv), 173.13(c)(2)(iii) | To authorize the manufacture, mark, sale and use of specially designed combination packagings for transportation in commerce of certain materials without hazard labels or placards, with quantity limits not exceeding on liter for liquids or 2.85 kilograms for solids. (modes 1, 2, 3, 4, 5)
16365-N |  | RDS Manufacturing, Inc., Perry, FL | 49 CFR 177.834(h), 178.700(c)(1) | To authorize the manufacture, mark, sale and use of UN 31B intermediate bulk containers (IBCs) with a capacity not exceeding 119 gallons. Additionally, discharge of flammable liquid hazardous materials from the IBCs without removing them from the vehicle on which they are transported is authorized. (mode 1)
16366-N |  | Department of Defense, Scott AFB, IL | 49 CFR 171.23(a), 173.302(a), ICAO TI Packing Instruction 200, IMDG Code Packing Instruction 200 | To authorize the transportation in commerce of nitrogen in non-DOT specification cylinders. (modes 1, 3, 4)
16371-N |  | Volkswagen Group of America (VWGoA), Herndon, VA | 49 CFR 172.102(c)(2), Special Provision A54, ICAO TI Special Provision A99 | To authorize the transportation in commerce of lithium ion batteries each exceeding 35 kg net weight when transported aboard cargo aircraft. (mode 4)
16372-N |  | Northrop Grumman Systems Corporation, Redondo Beach, CA | 49 CFR 173.301(f), 173.302a(a)(1), 173.304a(a)(2) | To authorize the transportation in commerce of non-DOT specification containers known as heat pipes containing anhydrous ammonia and/or pulse tube coolers containing helium. (mode 1)
16373-N |  | Stainless Tank & Equipment Co., LLC, Beloit, WI | 49 CFR 178.345-2, 178.346-2, 178.347-2, 178.348-2 | To authorize the manufacture, mark, sale and use of non-DOT specification cargo tank motor vehicles conforming in part with Specification DOT 406, DOT 407, and DOT 412. (mode 1)
16374-N |  | Bristow U.S. LLC, New Iberia, LA | 49 CFR 172.101 Hazardous Materials Table Column (9A) | To authorize the transportation in commerce of certain hazardous materials which exceed the authorized quantity limitations for passenger-carrying aircraft. (mode 5)
16375-N |  | Kalitta Charters, LLC, Ypsilanti, MI | 49 CFR 175.700(b)(2)(ii), 175.702(b) | To authorize the carriage of radioactive materials aboard cargo aircraft when the combined transport index exceeds the authorized limit of 200 per aircraft or the separation distance criteria of § 175.702(b) cannot be met. (mode 4)
16377-N |  | BASF Corporation, Florham Park, NJ | 49 CFR 173.315(a)(1), 173.315(a)(2) | To authorize the transportation in commerce of certain non-DOT specification spherical pressure vessels containing boron trifluoride. (modes 1, 2, 3)
16390-N |  | J.R. Helicopters LLC, Yakima, WA | 49 CFR 172.101 Hazardous Materials Table Column (9B), 172.200, 172.204(c)(3), 172.200, 172.204(c)(3), 172.301(c), 173.27(b)(2), 175.30(a)(1), 175.75 | To authorize the transportation in commerce of certain hazardous materials by 14 CFR Part 133 Rotorcraft External Load Operation transporting hazardous materials attached to or suspended from an aircraft, in remote areas of the U.S. only, without being subject to hazard communication requirements, quantity limitations and certain loading and stowage requirements. (mode 4)
16391-N |  | Halliburton Company, Houston, TX | 49 CFR 173.201, 173.301(f), 173.302, 173.304a | To authorize the transportation in commerce of non-DOT specification cylinders used in oil well sampling. (modes 1, 2, 3, 4)
16392-N |  | Gem Air, LLC, Salmon, ID | 49 CFR 172.101 Hazardous Materials Table Column (9A), 175.75(b) | To authorize the transportation in commerce of propane aboard passenger-carrying aircraft within or into remote wilderness areas in the United States. (mode 5)
16393-N |  | Airopack Technology Group BV, Waalwijk, The Netherlands | 49 CFR 171-180, IMDG Code Parts 1 through 7, ICAO TI Parts 1 through 8 | To authorize the manufacture, mark, sale and use of non-DOT non-plastic specification/packagings, conforming in part with DOT Specification 2S, charged with compressed air for the sole purpose of expelling a non-flammable, non-toxic, and non-corrosive (non-hazardous) liquid, paste, powder, or gel, which are not subject to the Hazardous Materials Regulations (HMR), the International Civil Aviation Organization's Technical Instructions for the Safe Transport of Dangerous Goods by Air (ICAO TI), or the International Maritime Dangerous Goods (IMDG) Code. (modes 1, 2, 3, 4, 5)
16394-N |  | Cellco Partnership, Basking Ridge, NJ | 49 CFR Subparts C through H of Part 172, 173.185(f) | To authorize the transportation in commerce of damaged or defective lithium ion cells and batteries and equipment containing them that originally met the requirements under 49 CFR 173.185(c). (modes 1, 2)
16395-N |  | Chandler Instruments Company LLC, Broken Arrow, OK | 49 CFR 173.201, 173.301(f), 173.302(a), 173.304 | To authorize the manufacture, mark, sale and use of non-specification DOT cylinders used in oil well sampling. (modes 1, 2, 3, 4)

[FR Doc. 2015-02977 Filed 2-19-15; 8:45 am]

BILLING CODE 4909-60-M